DEPARTMENT OF COMMERCE

National Telecommunications and Information Administration

Agency Information Collection Activities; Submission to the Office of Management and Budget (OMB) for Review and Approval; Comment Request; Web-Based Frequency Coordination System (70-80-90 GHz)

AGENCY: National Telecommunications and Information Administration, Commerce.

ACTION: Notice of Information Collection, request for comment.

SUMMARY: The Department of Commerce, following the Paperwork Reduction Act of 1995 (PRA), invites the public and other Federal agencies to comment on proposed and continuing information collections, which helps us assess the impact of our information collection requirements and minimize the public's reporting burden. This Notice of Information Collection is for the Web-Based Frequency Coordination System (70-80-90 GHz) which the National Telecommunications and Information Administration (NTIA) provides for frequency coordination. The purpose of this notice is to allow for 60 days of public comment preceding the submission of the collection to OMB.

DATES: To ensure consideration, comments regarding this proposed information collection must be received on or before June 2, 2023.

ADDRESSES: Interested persons are invited to submit written comments by mail to Edward Drocella, Chief, Spectrum Engineering and Analysis Division, Office of Spectrum Management, National Telecommunication and Information Administration, U.S. Department of Commerce, 1401 Constitution Avenue NW, Washington, DC 20230, or by email to edrocella@ntia.gov. Please reference Web-Based Frequency Coordination System in the subject line of your comments. Do not submit Confidential Business Information or otherwise sensitive or protected information.

FOR FURTHER INFORMATION CONTACT: Requests for additional information or specific questions related to collection activities should be directed to Edward Drocella, Chief, Spectrum Engineering and Analysis Division, via email at edrocella@ntia.gov or via telephone at (202) 482-2608.

SUPPLEMENTARY INFORMATION:

I. Abstract

NTIA serves as the President's principal advisor on telecommunications policies and manages the use of the radio-frequency spectrum by federal agencies. See 47 U.S.C. 902(b)(2). NTIA developed an internet web-based system that collects specific identification information from applicants seeking to operate in the 70-80-90 GHz bands that are shared on a co-primary basis among federal and non-federal users. The web-based system provides a means for non-federal applicants to rapidly determine the availability of radio frequency (RF) spectrum or the need for detailed frequency coordination. The website allows the non-federal applicant's proposed radio site information to be analyzed, and a real-time determination to be made as to whether there is a potential for interference to, or from, existing federal government radio operations in the vicinity of the proposed site. The system also helps expedite the coordination process for non-federal applicants while assuring protection of government data relating to national security. The information provided by non-federal applicants also ensures the protection of the applicant's station from RF interference from future government operations.

II. Method of Collection

NTIA collects the data by means of an internet web-based system. The applications on the website provide real-time responses to obtain either: (1) a validation of the coordination of a single frequency, or (2) a notification of the unavailability of a frequency at the one site and that further coordination will be required. Applicants submit information electronically to the website http://freqcoord.ntia.doc.gov/terms.aspx.

III. Data

OMB Control Number: 0660-0018.

Form Number(s): None.

Type of Review: Regular submission: extension of currently approved information collection.

Affected Public: Applicants seeking to operate in the 70-80-90 GHz bands.

Estimated Number of Respondents: 6,551.

Estimated Time per Response: 0.25 of an hour.

Estimated Total Annual Burden Hours: 1,638.

Estimated Total Annual Cost to Public: $50,123.

Respondent's Obligation: Voluntary.

Legal Authority: 47 U.S.C. 902(b)(2).

IV. Request for Comments

We are soliciting public comments to permit the Department/Bureau to: (a) Evaluate whether the proposed information collection is necessary and proper for the Department to carry its functions, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB for approval. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-06802 Filed 3-31-23; 8:45 am]

BILLING CODE 3510-60-P